DEPARTMENT OF TRANSPORTATION

Federal Aviation Administration

14 CFR Part 39

[Docket No. FAA-2010-0781; Directorate Identifier 2007-SW-49-AD]

RIN 2120-AA64

Airworthiness Directives; Eurocopter France Model AS-365N2, AS 365 N3, and SA-365N1 Helicopters

AGENCY: Federal Aviation Administration, DOT.

ACTION: Notice of proposed rulemaking (NPRM).

SUMMARY: We propose to adopt a new airworthiness directive (AD) for the specified Eurocopter France model helicopters. This proposed AD would require replacing the aluminum tail rotor (T/R) blade pitch control shaft with a steel T/R blade pitch control shaft. This proposed AD is prompted by an incident involving a Eurocopter France Model AS-365N2 helicopter on which there was a loss of control of the T/R due to a broken shaft. The actions specified by this proposed AD are intended to prevent failure of the T/R blade pitch control shaft, loss of T/R control, and subsequent loss of control of the helicopter.

DATES: Comments must be received on or before October 12, 2010.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, TX 75053-4005, telephone (800) 232-0323, fax (972) 641-3710, or at http://www.eurocopter.com.

You may examine the comments to this proposed AD in the AD docket on the Internet at http://www.regulations.gov.

FOR FURTHER INFORMATION CONTACT: Jim Grigg, Aviation Safety Engineer, Safety Management Group, Rotorcraft Directorate, FAA, 2601 Meacham Blvd., Fort Worth, Texas 76137, telephone (817) 222-5126, fax (817) 222-5961.

SUPPLEMENTARY INFORMATION:

Comments Invited

We invite you to submit any written data, views, or arguments regarding this proposed AD. Send your comments to the address listed under the caption ADDRESSES. Include the docket number “FAA-2010-0781, Directorate Identifier 2007-SW-49-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

The European Aviation Safety Agency (EASA), which is the Technical Agent for the Member States of the European Community, has issued EASA AD No. 2007-0220, dated August 13, 2007, to correct an unsafe condition for Eurocopter AS 365 N2, AS 365 N3, and SA 365 N1 helicopters, all serial numbers, equipped with an aluminum T/R blade pitch control shaft, part number (P/N) 365A33.6161.20 or P/N 365A33.6161.21. The EASA advises of an incident in which the pilot of a Model AS 365 N2 helicopter encountered a loss of control of the T/R, but executed an uneventful run-on landing. A subsequent investigation revealed that the T/R blade pitch control shaft, P/N 365A33.6161.21, had broken in the main section of the shaft sliding area, which appeared to be damaged by peening. The origin of the crack, which developed under fatigue loading, could not be determined. However, accidental damage (i.e., shock impact), is believed to have caused the initiation of a crack.

Related Service Information

Eurocopter has issued Alert Service Bulletin No. 01.00.59, dated June 21, 2007, which specifies removing any T/R blade pitch control shaft, P/N 365A33.6161.20 or P/N 365A33.6161.21, and replacing it with a steel T/R blade pitch control shaft, P/N 365A33.6214.20. The EASA classified this alert service bulletin as mandatory and issued EASA AD No. 2007-0220, dated August 13, 2007, to ensure the continued airworthiness of these helicopters.

FAA's Evaluation and Unsafe Condition Determination

These products have been approved by the aviation authority of France, and are approved for operation in the United States. Pursuant to our bilateral agreement with France, the EASA, their technical representative, has notified us of the unsafe condition described in the EASA AD. We are proposing this AD because we evaluated all information provided by the EASA and determined the unsafe condition exists and is likely to exist or develop on other products of these same type designs. This proposed AD would require, within 100 hours time-in-service, removing any aluminum T/R blade pitch control shaft, P/N 365A33.6161.20 or P/N 365A33.6161.21, and replacing it with a steel T/R blade pitch control shaft, P/N 365A33.6214.20. The actions would be required to be accomplished by following specified portions of the alert service bulletin described previously.

Differences Between This Proposed AD and the EASA AD

Our proposed AD differs from the EASA AD in that we require compliance within 100 hours time-in-service instead of no later than December 31, 2007, since that date has passed.

Costs of Compliance

We estimate that this proposed AD would affect 36 helicopters of U.S. registry and the proposed actions would take approximately 12 work hours per helicopter to accomplish at an average labor rate of $85 per work hour. Required parts would cost approximately $3,525. Based on these figures, we estimate the total cost impact of the proposed AD on U.S. operators to be $163,620 to replace the aluminum T/R blade pitch control shaft on the entire fleet, or $4,545 per helicopter.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2010-0781; Directorate Identifier 2007-SW-49-AD.

Applicability: Model AS-365N2, AS 365 N3, and SA-365N1 helicopters, with an aluminum tail rotor (T/R) blade pitch control shaft, part number (P/N) 365A33.6161.20 or P/N 365A33.6161.21, installed, certificated in any category.

Compliance: Required within 100 hours time-in-service, unless accomplished previously.

To prevent failure of the T/R blade pitch control shaft, loss of T/R control, and subsequent loss of control of the helicopter, accomplish the following:

(a) Remove the aluminum T/R blade pitch control shaft, P/N 365A33.6161.20 or P/N 365A33.6161.21, and replace it with a steel T/R blade pitch control shaft, P/N 365A33.6214.20, in accordance with the Accomplishment Instructions, Operational Procedure, paragraphs 2.B.1. through 2.B.3., of Eurocopter Alert Service Bulletin No. 01.00.59, dated June 21, 2007.

(b) To request a different method of compliance or a different compliance time for this AD, follow the procedures in 14 CFR 39.19. Contact the Manager, Safety Management Group, Rotorcraft Directorate, FAA, ATTN: Jim Grigg, Aviation Safety Engineer, 2601 Meacham Blvd., Fort Worth, Texas 76137, telephone (817) 222-5126, fax (817) 222-5961.

(c) The Joint Aircraft System/Component (JASC) Code is 6500: Tail Rotor Drive System.

Note: The subject of this AD is addressed in European Aviation Safety Agency AD No. 2007-0220, dated August 13, 2007.

Issued in Fort Worth, Texas, on August 2, 2010.
Scott A. Horn,
Acting Manager, Rotorcraft Directorate, Aircraft Certification Service.

[FR Doc. 2010-19823 Filed 8-10-10; 8:45 am]

BILLING CODE 4910-13-P